DEPARTMENT OF ENERGY

Federal Energy Regulatory Commission

Combined Notice of Filings #1

August 2, 2005.

Take notice that the Commission received the following electric rate filings:

Docket Numbers: ER00-874-001.

Applicants: Energy West Resources, Inc.

Description: Energy West Resources, Inc. submits its updated triennial market power analysis and revisions to its market-based rate tariff.

Filed Date: 07/25/2005.

Accession Number: 20050728-0117.

Comment Date: 5 p.m. eastern time on Monday, August 15, 2005.

Docket Numbers: ER01-2783-006.

Applicants: TEC Trading, Inc.

Description: TEC Trading, Inc. submits its report regarding the requirement that sellers with market-based rate authority make a triennial market power analysis filing pursuant to the Commission's order issued 5/31/2005, 111 FERC ¶ 61,295 (2005).

Filed Date: 07/26/2005.

Accession Number: 20050728-0118.

Comment Date: 5 p.m. eastern time on Tuesday, August 16, 2005.

Docket Numbers: ER02-1406-009; ER01-1099-008; ER99-2928-005; ER01-1397-006.

Applicants: Acadia Power Partners, LLC; Cleco Power LLC; Cleco Evangeline LLC; Perryville Energy Partners, L.L.C.

Description: Acadia Power Partners, LLC; Cleco Power LLC; Cleco Evangeline LLC and Perryville Energy Partners, L.L.C. submit the Delivered Price Test Analysis and related analyses in compliance with the Commission's order issued 5/25/05, 111 FERC ¶ 61,239 (2005).

Filed Date: 07/25/2005.

Accession Number: 20050728-0005.

Comment Date: 5 p.m. eastern time on Monday, August 15, 2005.

Docket Numbers: ER05-1245-000.

Applicants: Bangor Hydro-Electric Company.

Description: Bangor Hydro-Electric Company submits proposed revisions to its local service schedule set forth as Schedule 21-BHE in the ISO New England Inc. FERC Open Access Transmission Tariff.

Filed Date: 07/22/2005.

Accession Number: 20050728-0201.

Comment Date: 5 p.m. eastern time on Friday, August 12, 2005.

Docket Numbers: ER05-1246-000.

Applicants: Enron Sandhill Limited Partnership.

Description: Enron Sandhill Limited Partnership submits a Notice of Termination of its FERC Electric Tariff, Original Volume No.1, effective as of 11/1/02.

Filed Date: 07/25/2005.

Accession Number: 20050728-0200.

Comment Date: 5 p.m. eastern time on Monday, August 15, 2005.

Docket Numbers: ER05-1247-000.

Applicants: California Independent System Operator Corporation.

Description: California Independent System Operator Corporation (CAISO) submits Notice of Cancellation of the Dynamic Scheduling Agreement for Scheduling Coordinators between CAISO and Reliant Energy Services (Non-Conforming Service Agreement No. 579) effective as of 4/1/05.

Filed Date: 07/25/2005.

Accession Number: 20050728-0202.

Comment Date: 5 p.m. eastern time on Monday, August 15, 2005.

Docket Numbers: ER05-1248-000.

Applicants: Public Service Company of Colorado.

Description: Xcel Energy Services Inc., on behalf of Public Service Company of Colorado, submits the Second Restated and Amended Power Purchase Agreement between Public Service Company of Colorado and Intermountain Rural Electric Association.

Filed Date: 07/26/2005, as amended 07/29/2005.

Accession Number: 20050728-0203.

Comment Date: 5 p.m. eastern time on Tuesday, August 16, 2005.

Docket Numbers: ER05-1249-000.

Applicants: Granite State Electric Company; The Narragansett Electric Company; Massachusetts Electric Company; The Narragansett Electric Company; Niagara Mohawk Power Corporation; New England Power Company.

Description: National Grid USA, on behalf of its subsidiaries Granite State Electric Company (Granite State), The Narragansett Electric Company (Narragansett), Massachusetts Electric Company Mass Electric), Niagara Mohawk Power Corporation (Niagara Mohawk) and New England Power Company (NEP), submits revisions to the market-based rate sales tariffs of Niagara Mohawk and NEP; and market-based rate sales tariffs for Mass Electric, Narragansett and Granite State.

Filed Date: 07/26/2005.

Accession Number: 20050728-0190.

Comment Date: 5 p.m. eastern time on Tuesday, August 16, 2005.

Docket Numbers: ER96-2585-004; ER98-6-009.

Applicants: Niagara Mohawk Power Corporation; New England Power Company.

Description: National Grid USA, on behalf of its subsidiaries Niagara Mohawk Power Corporation and New England Power Company, submits an updated market power analysis in compliance with the Commission's 5/31/05 Order, 111 FERC ¶ 61.295 (2005).

Filed Date: 07/26/2005.

Accession Number: 20050728-0115.

Comment Date: 5 p.m. eastern time on Tuesday, August 16, 2005.

Docket Numbers: ER98-4095-005; ER99-1764-006; ER05-98-002.

Applicants: Carr Street Generating Station, L.P.; Erie Boulevard Hydropower, L.P.; Brascan Power St. Lawrence River, LLC.

Description: Carr Street Generating Station, LP, Erie Boulevard Hydropower, L.P., Brascan Power St. Lawrence River, LLC submit a consolidated updated market power analysis.

Filed Date: 07/25/2005.

Accession Number: 20050727-0010.

Comment Date: 5 p.m. eastern time on Monday, August 15, 2005.

Docket Numbers: ER99-2992-003.

Applicants: Tenaska Gateway Partners, Ltd.

Description: Tenaska Gateway Partners, Ltd. submits its triennial updated market analysis and revisions to its FERC Electric Tariff, Original Volume No.1 incorporating the Commission's change in status reporting requirement adopted in Order No. 652.

Filed Date: 07/26/2005.

Accession Number: 20050728-0116.

Comment Date: 5 p.m. eastern time on Tuesday, August 16, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4280 Filed 8-8-05; 8:45 am]

BILLING CODE 6717-01-P